DEPARTMENT OF COMMERCE

International Trade Administration

[A-570-828, A-823-805]

Silicomanganese From the People's Republic of China and Ukraine: Continuation of Antidumping Duty Orders

AGENCY: Import Administration, International Trade Administration, Department of Commerce.

SUMMARY: As a result of the determinations by the Department of Commerce (“the Department”) that revocation of the antidumping duty (“AD”) orders on silicomanganese from the People's Republic of China (“PRC”) and Ukraine would likely lead to continuation or recurrence of dumping, and the determinations by the U.S. International Trade Commission (“the ITC”) that revocation of these AD orders would likely lead to a continuation or recurrence of material injury to an industry in the United States, the Department is publishing this notice of the continuation of these AD orders.

DATES: Effective November 8, 2012.

FOR FURTHER INFORMATION CONTACT: Andrew Medley, AD/CVD Operations, Import Administration, International Trade Administration, U.S. Department of Commerce, 14th Street and Constitution Avenue NW., Washington, DC 20230; telephone: (202) 482-4987.

SUPPLEMENTARY INFORMATION:

Background

On August 1, 2011, the Department initiated and the ITC instituted sunset reviews of the AD orders on silicomanganese from the PRC and Ukraine, pursuant to sections 751(c) and 752 of the Tariff Act of 1930, as amended (“the Act”).¹ As a result of its reviews, the Department found that revocation of the AD orders would likely lead to continuation or recurrence of dumping and notified the ITC of the margins of dumping likely to prevail were the orders revoked.²

¹ See Initiation of Five-Year (“Sunset”) Review, 76 FR 45778 (August 1, 2011) and Silicomanganese From Brazil, China, and Ukraine Institution of a Five-Year Review Concerning the Antidumping Duty Orders on Silicomanganese From Brazil, China, and Ukraine, 76 FR 45856 (August 1, 2011).

² See Silicomanganese From Brazil, the People's Republic of China, and Ukraine: Final Results of the Expedited Third Sunset Reviews of the Antidumping Duty Orders, 76 FR 73587 (November 29, 2011).

On October 31, 2012, the ITC published its determination, pursuant to section 751(c) of the Act, that revocation of the AD orders on silicomanganese from the PRC and Ukraine would be likely to lead to continuation or recurrence of material injury within a reasonably foreseeable time.³

³ See Silicomanganese From Brazil, China, and Ukraine, 77 FR 65906 (October 31, 2012); see also Silicomanganese from Brazil, China, and Ukraine (Inv. Nos. 731-TA-671-673 (Third Review), USITC Publication 4354, October 2012). With regard to the AD order on silicomanganese from Brazil, the ITC determined that the revocation of that order would not be likely to lead to the continuation or recurrence of material injury to an industry in the United States.

Scope of the Orders

The merchandise covered by the orders is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (“HTSUS”). Some silicomanganese may also currently be classifiable under HTSUS subheading 7202.99.5040. The orders cover all silicomanganese, regardless of its tariff classification. Although the HTSUS subheadings are provided for convenience and customs purposes, the written description of the orders remain dispositive.

Continuation of the Orders

As a result of the determinations by the Department and the ITC that revocation of these AD orders would likely lead to continuation or recurrence of dumping and of material injury to an industry in the United States, pursuant to section 751(d)(2) of the Act, the Department hereby orders the continuation of the AD orders on silicomanganese from the PRC and Ukraine.

U.S. Customs and Border Protection will continue to collect cash deposits at the rates in effect at the time of entry for all imports of subject merchandise. The effective date of the continuation of these orders is the date of publication in the Federal Register of this notice of continuation. Pursuant to section 751(c)(2) of the Act, the Department intends to initiate the next five-year review of these orders not later than 30 days prior to the fifth anniversary of the effective date of the continuations.

These five-year (sunset) reviews and notice are in accordance with section 751(c) of the Act and published pursuant to sections 751(c) and 777(i)(1) of the Act, as well as 19 CFR 351.218(f)(4).

Dated: November 1, 2012.
Paul Piquado,
Assistant Secretary for Import Administration.

[FR Doc. 2012-27339 Filed 11-7-12; 8:45 am]

BILLING CODE 3510-DS-P